NUCLEAR REGULATORY COMMISSION

[Docket No. NRC-2014-0022]

Agency Information Collection Activities: Submission for the Office of Management and Budget (OMB) Review; Comment Request

AGENCY: Nuclear Regulatory Commission.

ACTION: Notice of the OMB review of information collection and solicitation of public comment.

SUMMARY: The Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on February 19, 2014.

1. Type of submission, new, revision, or extension: Extension.

2. The title of the information collection: NUREG/BR-0254, Payment Methods; and NRC Form 629, “Authorization for Payment by Credit Card.”

3. Current OMB approval number: 3150-0190.

4. The form number if applicable: NRC Form 629.

5. How often the collection is required: As needed to process credit card payments.

6. Who will be required or asked to report: Anyone doing business with the NRC including licensees, applicants and individuals who are required to pay a fee for inspections and licenses.

7. An estimate of the number of annual responses: 545.

8. The estimated number of annual respondents: 545.

9. An estimate of the total number of hours needed annually to complete the requirement or request: 45.4 hours.

10. Abstract: The U.S. Department of Treasury encourages the public to pay monies owed to the government through use of the Automated Clearinghouse Network and credit cards. These two methods of payment are used by licensees, applicants, and individuals to pay civil penalties, full cost licensing fees, and annual fees to the NRC.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by June 11, 2014. Comments received after this date will be considered if it is practical to do so, but assurance of consideration cannot be given to comments received after this date.

Danielle Y. Jones, Desk Officer, Office of Information and Regulatory Affairs (3150-0190), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 6th day of May, 2014.
For the Nuclear Regulatory Commission.
Kristen Benney,
Acting NRC Clearance Officer, Office of Information Services.

[FR Doc. 2014-10758 Filed 5-9-14; 8:45 am]

BILLING CODE 7590-01-P